DEPARTMENT OF TRANSPORTATION

Federal Aviation Administration

14 CFR Part 39

[Docket No. FAA-2009-1215; Directorate Identifier 2009-NM-126-AD]

RIN 2120-AA64

Airworthiness Directives; Airbus Model A330-200 and -300, and Model A340-200, -300, -500 and 600 Series Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

* * * [P]artial blockage of the water absorbing filter element P/N (part number) QA06123 was observed several times. The blockage was created by carbon debris from the cartridge and from the burst disc of the Halon bottle.

This water absorbing filter element is part of Halon Dual-Filter Assembly installed also in the Flow Metering System (FMS) of the cargo compartment Fire Extinguishing System used in the A330 and A340 aeroplanes.

Blockage of the water absorbing filter element could lead to reduction of Halon outflow, leading to incapacity to maintain fire extinguishing agent concentration. Combined with fire, this could result in an uncontrolled fire in the affected compartment, which would constitute an unsafe condition.

* * * * *

The proposed AD would require actions that are intended to address the unsafe condition described in the MCAI.

DATES: We must receive comments on this proposed AD by February 12, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2009-1215; Directorate Identifier 2009-NM-126-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2009-0064, dated March 12, 2009 (referred to after this as “the MCAI”), to correct an unsafe condition for the specified products. The MCAI states:

During the qualification test campaign at the supplier site of the prototype Flow Metering Compact Unit (FMCU) Part Number (P/N) QA07907-03, partial blockage of the water absorbing filter element P/N QA06123 was observed several times. The blockage was created by carbon debris from the cartridge and from the burst disc of the Halon bottle.

This water absorbing filter element is part of Halon Dual-Filter Assembly installed also in the Flow Metering System (FMS) of the cargo compartment Fire Extinguishing System used in the A330 and A340 aeroplanes.

Blockage of the water absorbing filter element could lead to reduction of Halon outflow, leading to incapacity to maintain fire extinguishing agent concentration. Combined with fire, this could result in an uncontrolled fire in the affected compartment, which would constitute an unsafe condition.

To avoid water absorbing filter element blockage, this AD requires replacement [with improved dual-filter assemblies] or modification of the Halon dual-filter assemblies of the lower deck cargo compartment fire extinguishing system:

—In the forward cargo compartment for aeroplanes fitted with Lower Deck Cargo Compartment (LDCC) and

—In the bulk cargo compartment for aeroplanes fitted with Bulk Cargo Rest Compartment (BCRC) fire extinguishing system.

You may obtain further information by examining the MCAI in the AD docket.

Relevant Service Information

Airbus has issued Mandatory Service Bulletin A330-26-3040, Revision 02, dated August 6, 2008; Mandatory Service Bulletin A340-26-4038, Revision 02, dated August 6, 2008; and Mandatory Service Bulletin A340-26-5019, Revision 03, dated May 19, 2009. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 32 products of U.S. registry. We also estimate that it would take about 13 work-hours per product to comply with the basic requirements of this proposed AD. The average labor rate is $80 per work-hour. Required parts would cost about $708 per product. Where the service information lists required parts costs that are covered under warranty, we have assumed that there will be no charge for these costs. As we do not control warranty coverage for affected parties, some parties may incur costs higher than estimated here. Based on these figures, we estimate the cost of the proposed AD on U.S. operators to be $55,936, or $1,748 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2009-1215; Directorate Identifier 2009-NM-126-AD.

Comments Due Date

(a) We must receive comments by February 12, 2010.

Affected ADs

(b) None.

Applicability

(c) This AD applies to airplanes certificated in any category, identified in paragraphs (c)(1), (c)(2), and (c)(3) of this AD.

(1) Airbus Model A330-201, -202, -203, -223, -243, -301, -302, -303, -321, -322, -323, -341, -342 and -343 airplanes, all serial numbers, except those on which Airbus modification 55590 has been embodied in production.

(2) Airbus Model A340-211, -212, -213, -311, -312 -313, -541, and -642 airplanes, all serial numbers fitted with lower deck cargo compartment (LDCC), except those on which Airbus modification 55590 has been embodied in production.

(3) Airbus Model A340-311, -312 -313, -541, and -642 airplanes, all serial numbers fitted with bulk cargo rest compartment (BCRC), except those on which Airbus modification 56047 has been embodied in production.

Note 1: The BCRC is embodied in production on Airbus Model A340-300, A340-500, and A340-600 airplanes through the following Airbus modification (including but not limited to): 47198, 47884, 48895, 48710, 49136, 50107, 50900, 50901, or 51320.

Note 2: The fire extinguishing system for the BCRC is embodied in production on Model A340-500 and A340-600 airplanes through Mod 47197, (partial BCRC); on Model A340-500 and A340-600 airplanes through Mod 47883 (full BCRC); and on Model A340-300 airplanes through Mod 50108 (partial BCRC).

Subject

(d) Air Transport Association (ATA) of America Code 26: Fire protection.

Reason

(e) The mandatory continuing airworthiness information (MCAI) states:

During the qualification test campaign at the supplier site of the prototype Flow Metering Compact Unit (FMCU) Part Number (P/N) QA07907-03, partial blockage of the water absorbing filter element P/N QA06123 was observed several times. The blockage was created by carbon debris from the cartridge and from the burst disc of the Halon bottle.

This water absorbing filter element is part of Halon Dual-Filter Assembly installed also in the Flow Metering System (FMS) of the cargo compartment Fire Extinguishing System used in the A330 and A340 aeroplanes.

Blockage of the water absorbing filter element could lead to reduction of Halon outflow, leading to incapacity to maintain fire extinguishing agent concentration. Combined with fire, this could result in an uncontrolled fire in the affected compartment, which would constitute an unsafe condition.

To avoid water absorbing filter element blockage, this AD requires replacement [with improved dual-filter assemblies] or modification of the Halon dual-filter assemblies of the lower deck cargo compartment fire extinguishing system:

—In the forward cargo compartment for aeroplanes fitted with Lower Deck Cargo Compartment (LDCC) and

—In the bulk cargo compartment for aeroplanes fitted with Bulk Cargo Rest Compartment (BCRC) fire extinguishing system.

Actions and Compliance

(f) Unless already done, do the following actions.

(1) Replace or modify the Halon dual-filter assemblies of the flow metering fire extinguishing system in the forward and bulk cargo compartments, as applicable, in accordance with the Accomplishment Instructions of the applicable service bulletin identified in Table 1 of this AD, at the applicable time specified in paragraphs (f)(1)(i), (f)(1)(ii), and (f)(1)(iii) of this AD.

Table 1—Service Bulletins
Airbus model— | Airbus Mandatory Service Bulletin— | Revision— | Dated—
A330-200 and -300 airplanes | A330-26-3040 | 02 | August 6, 2008.
A340-200 and -300 airplanes | A340-26-4038 | 02 | August 6, 2008.
A340-500 and -600 airplanes | A340-26-5019 | 03 | May 19, 2009.

(i) For airplanes fitted with Halon dual-filter assemblies part number (P/N) QA06753: Within 18 months after the effective date of this AD.

(ii) For Model A340-642 series airplanes, weight variant 101, 102, and 103 fitted with Halon dual-filter assembly P/N QA06753-01 or P/N QA06753-02: Within 18 months after the effective date of this AD.

(iii) For airplanes other than those identified in paragraph (f)(1)(ii) of this AD and fitted with Halon dual-filter assembly P/N QA06753-01 or P/N QA06753-02: Within 24 months after the effective date of this AD.

Note 3: The Halon dual-filter assemblyP/N QA06753 is embodied in production through Airbus modification 40041. The Halon dual-filter assembly P/N QA06753-01 is only embodied in service through Airbus Service Bulletin A330-26-3030 or Airbus Service Bulletin A340-26-4030. The Halon dual-filter assembly P/N QA06753-02 is embodied in production through modification 47197 or 47883 or 50108 (BCRC) and 51065 or 51329 (LDCC) or in service through Airbus Service Bulletin A330-26-3030 or Airbus Service Bulletin A340-26-4030.

(2) Actions accomplished before the effective date of this AD according to the service bulletins listed in Table 2 of this AD are considered acceptable for compliance with the corresponding actions specified in this AD.

Table 2—Credit Service Bulletins
Airbus— | Revision— | Dated—
Mandatory Service Bulletin A340-26-5019 | 02 | August 6, 2008.
Service Bulletin A330-26-3040 | Original | March 29, 2007.
Service Bulletin A330-26-3040 | 01 | December 19, 2007.
Service Bulletin A340-26-4038 | Original | March 29, 2007.
Service Bulletin A340-26-4038 | 01 | December 19, 2007.
Service Bulletin A340-26-5019 | Original | July 27, 2007.
Service Bulletin A340-26-5019 | 01 | January 23, 2008.

FAA AD Differences

Note 4: This AD differs from the MCAI and/or service information as follows:

(1) The second paragraph of the applicability of the MCAI specifies certain models except those on which Modification 55590 has been done. Paragraph (c)(2) of this AD specifies those models fitted with lower deck cargo compartment (LDCC), except those on which Modification 55590 has been done.

(2) Although the MCAI tells you to submit information to the manufacturer, this AD does not require such a submittal.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(h) Refer to MCAI European Aviation Safety Agency Airworthiness Directive 2009-0064, dated March 12, 2009; and the service information identified in Table 3 of this AD for related information.

Table 3—Related Service Information
Airbus Mandatory Service Bulletin | Revision | Date
A330-26-3040 | 02 | August 6, 2008.
A340-26-4038 | 02 | August 6, 2008.
A340-26-5019 | 03 | May 19, 2009.

Issued in Renton, Washington, on December 16, 2009.
Stephen P. Boyd,
Acting Manager, Transport Airplane Directorate, Aircraft Certification Service.

[FR Doc. E9-30649 Filed 12-28-09; 8:45 am]

BILLING CODE 4910-13-P